DEPARTMENT OF THE TREASURY

Agency Information Collection Activities; Submission for OMB Review; Comment Request; Multiple Departmental Offices Information Collection Requests

AGENCY: Departmental Offices, U.S. Department of the Treasury.

ACTION: Notice of Information Collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before July 28, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

1. Title: 31 CFR part 128, Reporting of International Capital and Foreign Currency Transactions and Positions.

OMB Control Number: 1505-0149.

Type of Request: Revision of a currently approved collection.

Description: 31 CFR part 128 establishes general guidelines for reporting on United States claims on and liabilities to foreigners; on transactions in securities with foreigners; and on the monetary reserves of the United States as provided for by the International Investment and Trade in Services Survey Act and the Bretton Woods Agreements Act. In addition, 31 CFR part 128 establishes general guidelines for reporting on the nature and source of foreign currency transactions of large U.S. business enterprises and their foreign affiliates. This regulation includes a recordkeeping requirement, § 128.5, which is necessary to enable the Office of International Affairs to verify reported information and to secure additional information concerning reported information as may be necessary. The recordkeepers are U.S. persons required to file reports covered by these regulations.

Form: None.

Affected Public: Business or other for-profit organizations.

Estimated Number of Respondents: 1,808.

Frequency of Response: On occasion.

Estimated Total Number of Annual Responses: 18,216.

Estimated Time per Response: 20 minutes.

Estimated Total Annual Burden Hours: 6,072.

2. Title: Prohibition on Funding of Unlawful Internet Gambling.

OMB Control Number: 1505-0204.

Type of Request: Extension without change of a currently approved collection.

Description: The Unlawful Internet Gambling Enforcement Act requires the Treasury and the Federal Reserve Board (the “Agencies”) to prescribe regulations requiring designated payment systems and all participants to identify and block unlawful internet gambling transactions through the establishment of reasonably designated policies and procedures. The Agencies have published a regulation that requires designated payment systems and all participants to establish and implement written policies and procedures.

Form: None.

Affected Public: Banks and thrifts, credit unions, money transmitting business operators and card system operators.

Estimated Number of Respondents: 6,038.

Frequency of Response: Annually.

Estimated Total Number of Annual Responses: 6,038.

Estimated Time per Response: 100 hours for new institutions to establish written policies and procedures. 8 hours for existing institutions to maintain written policies once established.

Estimated Total Annual Burden Hours: 48,604.

3. Title: Determinations Regarding Certain Nonbank Financial Companies.

OMB Control Number: 1505-0244.

Type of Request: Extension without change of a currently approved collection.

Description: The information collected in § 1310.20 from state regulatory agencies will be used generally by FSOC to carry out its duties under Title I of the Dodd-Frank Act. The collections of information in §§ 1310.21 and 1310.22 provide an opportunity to request a hearing or submit written materials to the Council concerning whether, in the company's view, material financial distress at the company, or the nature, scope, size, scale, concentration, interconnectedness, or mix of the activities of the company, could pose a threat to the financial stability of the United States.

Form: None.

Affected Public: Nonbank financial companies.

Estimated Number of Respondents: 1.

Frequency of Response: On occasion.

Estimated Total Number of Annual Responses: 1.

Estimated Time per Response: 20 hours.

Estimated Total Annual Burden Hours: 20.

4. Title: Equal Employment Opportunity (EEO) Complaint Forms.

OMB Control Number: 1505-0262.

Type of Request: Revision of a currently approved collection.

Description: This information is being collected for the purpose of processing informal and formal complaints of employment discrimination against the Department on the bases of race, color, religion, sex (including pregnancy), national origin, age (over 40), disability, genetic information, parental status, or retaliation. Pursuant to 29 CFR 1614.105, the individual must participate in pre-complaint counseling to try to informally resolve his/her complaint prior to filing a complaint of discrimination. Information provided on the pre-complaint forms may be used by the counselee to assist in determining if they would like to file a formal complaint against the Department. The information captured on these forms will be reviewed by the staff of the Department's Office of Civil Rights and EEO to frame the claims for investigation and determine whether the claims are within the parameters established in 29 CFR part 1614. Minor changes were made to previously approved EEO Forms to reflect the removal of gender identity and sexual orientation as a basis for sex discrimination. The term/label of “Aggrieved” was also changed to “Counselee” or “Aggrieved” to “employee or applicant”.

Forms: Report of Counseling 62-03.1, Designation of Representative and Limited Power of Attorney 62-03.2, Agreement to Extend Counseling with Mediation 62-03.4, Individual Formal Complaint Form 62-03.5, Agreement to Extend Counseling without Mediation 62-03.6, Notice of Rights and Responsibilities 62-03.7, Notice of Right to File 62-03.8, Withdrawal 62-03.9, Class Complaint 62-03.10, ADR Election Form 62-03.11.

Affected Public: Individuals (Current Treasury Employees, Former Employees or Applicants).

Estimated Number of Respondents: 20.

Frequency of Response: Once, On Occasion.

Estimated Total Number of Annual Responses: 20.

Estimated Time per Response: Varies by form from 3 minutes to 1 hour.

Estimated Total Annual Burden Hours: 47.

Authority: 44 U.S.C. 3501 et seq.

Spencer W. Clark,
Treasury PRA Clearance Officer.

[FR Doc. 2025-11975 Filed 6-26-25; 8:45 am]

BILLING CODE 4810-AK-P